DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On June 20, 2023, OFAC determined that the property and interests in property subject to U.S. jurisdiction of the following persons are blocked under the relevant sanctions authority listed below.

Individuals

1. NANDO, James (a.k.a. MARK, James Nando; a.k.a. NANDO, James Marko), Juba, South Sudan; Yambio, South Sudan; Congo, Democratic Republic of the; DOB 1970 to 1972; POB Sudan; nationality South Sudan; Gender Male (individual) [SOUTH SUDAN].

Designated pursuant to Section 1(a)(i)(E) of Executive Order 13664 of April 3, 2014, “Blocking Property of Certain Persons With Respect to South Sudan” (“E.O. 13664”), for being responsible for or complicit in, or to have engaged in, directly or indirectly, in or in relation to South Sudan, the targeting of women, children, or any civilians through the commission of acts of violence (including killing, maiming, torture, or rape or other sexual violence), abduction, forced displacement, or attacks on schools, hospitals, religious sites, or locations where civilians are seeking refuge, or through conduct that would constitute a serious abuse or violation of human rights or a violation of international humanitarian law.

2. FUTUYO, Alfred (a.k.a. FATIYO, Alfred; a.k.a. FUTOYI, Alfred; a.k.a. KARABA, Alfred Fatuyo; a.k.a. KARABA, Alfred Futuyo), Yambio, Western Equatoria, South Sudan; DOB 1971 to 1973; POB Sudan; Gender Male (individual) [SOUTH SUDAN].

Designated pursuant to Section 1(a)(i)(E) of E.O. 13664 for being responsible for or complicit in, or to have engaged in, directly or indirectly, in or in relation to South Sudan, the targeting of women, children, or

any civilians through the commission of acts of violence (including killing, maiming, torture, or rape or other sexual violence), abduction, forced displacement, or attacks on schools, hospitals, religious sites, or locations where civilians are seeking refuge, or through conduct that would constitute a serious abuse or violation of human rights or a violation of international humanitarian law.

Dated: June 20, 2023.
Andrea Gacki,
Director, Office of Foreign Assets Control, U.S. Department of the Treasury.

[FR Doc. 2023-13386 Filed 6-22-23; 8:45 am]

BILLING CODE 4810-AL-P